DEPARTMENT OF DEFENSE

Department of the Navy

[Docket ID: USN-2008-0034]

Privacy Act of 1974; System of Records

AGENCY: Department of the Navy, DoD.

ACTION: Notice To Add a System of Records.

SUMMARY: The Department of Navy proposes to add a system of records to its inventory of record systems subject to the Privacy Act of 1974 (5 U.S.C. 552a), as amended.

DATES: The changes will be effective on May 30, 2008 unless comments are received that would result in a contrary determination.

ADDRESSES: Send comments to the Privacy Act Officer, Mrs. Doris Lama, Department of the Navy, 2000 Navy Pentagon, Washington, DC 20350-2000.

FOR FURTHER INFORMATION CONTACT: Mrs. Doris Lama at (202) 685-6545.

SUPPLEMENTARY INFORMATION: The Department of the Navy systems of records notices subject to the Privacy Act of 1974 (5 U.S.C. 552a), as amended, have been published in the Federal Register and are available from the address above.

The proposed systems reports, as required by 5 U.S.C. 552a(r) of the Privacy Act of 1974, as amended, were submitted on April 16, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 23, 2008.
Patricia Toppings,
OSD Federal Register Liaison Officer, Department of Defense.

N01420-1

System name:

Enlisted to Officer Commissioning Programs.

System locations:

U.S. Naval Academy (USNA)—Nominations and Appointments Office, 117 Decatur Road, Annapolis, MD 21402-5019.

Officer Candidate School (OCS)—Navy Recruiting Command (N36), Naval Support Activity Mid South, Building 784, 5722 Integrity Drive, Millington, TN 38054-5057.

Medical Commissioning Program (MCP)—Naval Medical Education and Training Command, (Code OG3), 8901 Wisconsin Avenue, Bethesda, MD 20889-5611.

Medical Service Corps (MSC) Interservice Procurement Program (IPP)—Naval Medical Education and Training Command, (Code OG3), Officer Graduate Programs, 8901 Wisconsin Avenue, Bethesda, MD 20889-5611.

Limited Duty Officer (LDO) and Chief Warrant Officer (CWO) Active duty program—Navy Personnel Command (PERS 803), 5720 Integrity Drive, Millington, TN 38055-8010.

LDO/CWO Inactive duty program—Navy Personnel Command (PERS 91C), 5720 Integrity Drive, Millington, TN 38055-9200.

Seaman to Admiral (STA-21) Program—Commanding Officer, Attn: OD2, Naval Service Training Command, 250 Dallas Street, Suite A, Pensacola, FL 32508-5268.

Categories of individuals covered by the system:

Individuals who apply for Officer Commissioning Programs in the Navy.

Categories of records in the system:

Full name, Social Security Number (SSN), rank, status; OPNAV 1420/1, Officer Programs Application; school transcripts; DD Form 2807-1, Report of Medical History; DD 2808, Report of Medical Examination; STA-21, Application Data Form; Commanding Officer's Recommendation Form; Nomination Review Board Chairperson Recommendation Form; Interview Verification Form; NAVCRUIT 1131/5, Interviewers Appraisal Sheet; Applicant checklists.

Authority for maintenance of the system:

5 U.S.C. 301, Departmental Regulations; 10 U.S.C. 532, 2122, 5013, 12209, 12241; E.O. 9397 (SSN); and OPNAVINST 1420.1B, Enlisted to Officer Commissioning Programs Application Administration Manual.

Purpose(s):

To determine applicant's qualifications for commission in the U.S. Navy and programs leading to commission. The information provided may become a permanent part of the individual's service record. The Social Security Number (SSN) will be used to verify, identify, and locate existing records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Justice for use in prosecuting applicant for fraudulent appointment into the Navy.

The DoD “Blanket Routine Uses” that appear at the beginning of the Navy's compilation of system of record notices apply to this system.

Policies and practices for storing, retrieving, accessing, retaining, and disposing of records in the system:

Storage:

Paper and automated records.

Retrievability:

Name and Social Security Number (SSN).

Safeguards:

Password controlled system, file, and element access based on predefined need-to-know. Physical access to terminals, terminal rooms, buildings and activities' grounds are controlled by locked terminals and rooms, guards, personnel screening and visitor registers. Password complexity, expiration, minimum length, and history will assist in assuring only appropriate personnel have access to client data.

Retention and disposal:

Records which have not been merged in the military personnel record are destroyed after two years.

System manager(s) and address:

U.S. Naval Academy (USNA)—Candidate Guidance Office, Attn: Fleet/NAPS Coordinator, 117 Decatur Road, Annapolis, MD 21402-5018.

Officer Candidate School (OCS)—Navy Recruiting Command (N36), Naval Support Activity Mid South, Building 784, 5722 Integrity Drive, Millington, TN 38054-5057.

Medical Commissioning Program (MCP)—Naval Medical Education and Training Command, (Code OG3), 8901 Wisconsin Avenue, Bethesda, MD 20889-5611.

MSC IPP—Naval Medical Education and Training Command, (Code OG3), Officer Graduate Programs, 8901 Wisconsin Avenue, Bethesda, MD 20889-5611.

LDO/CWO Active duty—Navy Personnel Command PERS 803, 5720 Integrity Drive, Millington, TN 38055-8010.

LDO/CWO Inactive duty—Navy Personnel Command PERS 91C, 5720 Integrity Drive, Millington, TN 38055-9200.

STA-21—Commanding Officer, Attn: OD2, Naval Service Training Command, 250 Dallas Street, Suite A, Pensacola, FL 32508-5268.

Notification procedure:

Individuals seeking to determine whether this system of records contains information about themselves should address written inquiries to the official they submitted their application to. Such as:

USNA—U.S. Naval Academy, Candidate Guidance Office, Attn: Fleet/NAPS Coordinator, 117 Decatur Road, Annapolis, MD 21402-5018.

OCS—Navy Recruiting Command (N36), Naval Support Activity Mid South, Building 784, 5722 Integrity Drive, Millington, TN 38054-5057.

MCP—Naval Medical Education and Training Command, (Code OG3), 8901 Wisconsin Avenue, Bethesda, MD 20889-5611.

MSC IPP—Naval Medical Education and Training Command, (Code OG3), Officer Graduate Programs, 8901 Wisconsin Avenue, Bethesda, MD 20889-5611.

LDO/CWO Active duty—Navy Personnel Command PERS 803, 5720 Integrity Drive, Millington, TN 38055-8010.

LDO/CWO Inactive duty—Navy Personnel Command PERS 91C, 5720 Integrity Drive, Millington, TN 38055-9200.

STA-21—Commanding Officer, Attn: OD2, Naval Service Training Command, 250 Dallas Street, Suite A, Pensacola, FL 32508-5268.

Written request should contain full name, Social Security Number, rank, status, and signature of requester.

Record access procedures:

Active duty enlisted personnel seeking access to records about themselves contained in this system of records should address written inquiries to the official they submitted their application to. Such as:

USNA—U.S. Naval Academy, Candidate Guidance Office, Attn: Fleet/NAPS Coordinator, 117 Decatur Road, Annapolis, MD 21402-5018.

OCS—Navy Recruiting Command (N36), Naval Support Activity Mid South, Building 784, 5722 Integrity Drive, Millington, TN 38054-5057.

MCP—Naval Medical Education and Training Command, (Code OG3), 8901 Wisconsin Avenue, Bethesda, MD 20889-5611.

MSC IPP—Naval Medical Education and Training Command, (Code OG3), Officer Graduate Programs, 8901 Wisconsin Avenue, Bethesda, MD 20889-5611.

LDO/CWO Active duty—Navy Personnel Command PERS 803, 5720 Integrity Drive, Millington, TN 38055-8010.

LDO/CWO Inactive duty—Navy Personnel Command PERS 91C, 5720 Integrity Drive, Millington, TN 38055-9200.

STA-21—Commanding Officer, Attn: OD2, Naval Service Training Command, 250 Dallas Street, Suite A, Pensacola, FL 32508-5268.

Written request should contain full name, Social Security Number, rank, status, and signature of requester.

Contesting record procedures:

The Navy's rules for accessing records, and for contesting contents and appealing initial agency determinations are published in Secretary of the Navy Instruction 5211.5; 32 CFR part 701; or may be obtained from the system manager.

Record source categories:

Individual; application forms; official records; transcripts; official correspondence; etc.

Exemptions claimed for the system:

None.

[FR Doc. E8-9382 Filed 4-29-08; 8:45 am]

BILLING CODE 5001-06-P